DEPARTMENT OF EDUCATION

[Docket No.: ED-2018-ICCD-0060]

Agency Information Collection Activities; Comment Request; Temporary Expansion of Public Service Loan Forgiveness (TE-PSLF)

AGENCY: Federal Student Aid (FSA), Department of Education (ED).

ACTION: Notice.

SUMMARY: In accordance with the Paperwork Reduction Act of 1995, ED is requesting the Office of Management and Budget (OMB) to conduct an emergency review of a new information collection.

DATES: Approval by the OMB has been requested by May 21, 2018. A regular clearance process is also hereby being initiated. Interested persons are invited to submit comments on or before July 23, 2018.

ADDRESSES: To access and review all the documents related to the information collection listed in this notice, please use http://www.regulations.gov by searching the Docket ID number ED-2018-ICCD-0060. Comments submitted in response to this notice should be submitted electronically through the Federal eRulemaking Portal at http://www.regulations.gov by selecting the Docket ID number or via postal mail, commercial delivery, or hand delivery. Please note that comments submitted by fax or email and those submitted after the comment period will not be accepted. Written requests for information or comments submitted by postal mail or delivery should be addressed to the Director of the Information Collection Clearance Division, U.S. Department of Education, 400 Maryland Avenue SW, LBJ, Room 216-34, Washington, DC 20202-4537.

FOR FURTHER INFORMATION CONTACT: For specific questions related to collection activities, please contact Beth Grebeldinger, 202-377-4018.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Temporary Expansion of Public Service Loan Forgiveness (TE-PSLF).

OMB Control Number: 1845—NEW.

Type of Review: A new information collection.

Respondents/Affected Public: Individuals or Households.

Total Estimated Number of Annual Responses: 10,899.

Total Estimated Number of Annual Burden Hours: 4,380.

Abstract: This is a request for an emergency clearance to enable FSA to ensure that the required operational changes can be implemented to allow for the benefits to be available to federal student loan borrowers as well as to remain in compliance with the statutory requirements.

Section 315 of Title III, Division H in the Consolidated Appropriations Act, 2018, (Pub. L. 115-141) included a provision for ED to implement “. . . a simple method for borrowers to apply for loan cancellation . . .” under a temporary expansion of the PSLF program. The Consolidated Appropriations Act, 2018, required ED to implement an application process within 60 days of enactment. To meet that requirement, we are requesting emergency clearance by May 21, 2018. We are also requesting the initiation of the full clearance review to allow for public comment on the process.

ED is requesting a new collection to be used to obtain information from federal student loan borrowers to make a determination of their eligibility for participation in the loan forgiveness mandated by the new appropriations law. This loan forgiveness is only available to Direct Loan borrowers who otherwise qualify for Public Service Loan Forgiveness (PSLF) and meet other new requirements.

Additional Information: An emergency clearance approval for the use of the system is described below due to the following conditions:

• This is a request for an emergency clearance to enable FSA to ensure that the required operational changes can be implemented to allow for the benefits to be available to federal student loan borrowers as well as to remain in compliance with the statutory requirements.

Dated: May 21, 2018.
Kate Mullan,
Acting Director, Information Collection Clearance Division, Office of the Chief Privacy Officer, Office of Management.

[FR Doc. 2018-11109 Filed 5-23-18; 8:45 am]

BILLING CODE 4000-01-P